DEPARTMENT OF HEALTH AND HUMAN SERVICES

Centers for Disease Control and Prevention

[60Day-07-07AZ]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

US-Mexico Border Diabetes Community Health Worker/Promotores de Salud Intervention Pilot Project—New—National Center for Chronic Disease Prevention and Health Promotion (NCCDPHP), Centers for Disease Control and Prevention (CDC).

Background and Brief Description

The Pan American Health Organization (PAHO), El Paso field office, in collaboration with the United States/Mexico Border Diabetes Prevention and Control Programs and the Mexico Secretariat of Health is requesting approval for the US-MEXICO BORDER DIABETES COMMUNITY HEALTH WORKER/PROMOTORES de SALUD INTERVENTION PILOT PROJECT (CHW/PdS IPP) of the US-Mexico Diabetes Prevention and Control Project.

The purpose of the project is to diminish the impact of diabetes on the border population by conducting activities to address the high prevalence of diabetes, related behavioral risk factors and improve the health services for the border population. This project is targeted for completion by September 2009. CHW/PdS IPP will be implemented in eleven pilot communities, where persons living with diabetes will be randomized to either intervention group participant (IGP) or delayed intervention control group participant (DICGP). The DICGP will receive usual diabetes self management education by the health care provider in a community health center setting, and the IGP will be assigned to receive diabetes self management education reinforcement and coaching social support at the community/home level, by a Community Health Worker/Promotor de Salud. These programs will be culturally and linguistically appropriate and will include the participation of community health workers (promotores) and primary healthcare providers working as a team approach.

Activities will include implementation of family centered community interventions that will provide biweekly site visits to the person living with diabetes and provide follow-up and support for the participant and their family. Two family members, found with the highest risk factor rating, will also be intervened by the CHW/PdS. The CHW will reinforce educational messages on balance nutrition and physical activity and provide social support and coaching to the person living with diabetes and their family members. The CHW/PdSs will be trained in diabetes and community mobilization skills.

A person living with diabetes and one high risk blood relative family members will receive an initial survey, to establish baseline to evaluate the model's effectiveness. Participants will receive a nutrition questionnaire to assess their nutrition knowledge and practice to tailor the nutrition education information, and will also receive a questionnaire to assess the cost effectiveness of the CHW/PdS model. The Diabetes Intervention Group (DIG) and the 1st Degree Blood Relative Intervention Group (BRIG), will receive tri-weekly visits, lasting approximately 2 hours. During these sessions the initial survey, the nutrition questionnaire and the cost effectiveness questionnaire will be given by the CHW/PdS to the participants.

The Diabetes Delayed Intervention Group (DDIG) and the 1st Degree Blood Relative Delayed Intervention Group (BRDIG), will receive an initial site visit, lasting approximately 2 hours. At this time the initial participant and family member survey will be administered by the CHW/PdS. After the intervention phase is completed, estimated time line being 18 months, the DDIG and the BRDIG will receive group educational sessions for a period of one hour for 16 weeks.

There are no costs to respondents except their time to participate in the survey.

Estimated Annualized Burden Hours
Respondents | Types of visits | Number of respondents | Number of responses per respondent | Average burden per response (in hrs.) | Total burden (in hours)
Diabetes Intervention Group (DIG) | Every three weeks visit | 363 | 17 | 2 | 12,342
1st Degree Blood Relative Intervention Group (BRIG) | Every three weeks visit | 363 | 17 | 2 | 12,342
Diabetes—Delayed Intervention Group (DDIG) | First visit Weekly visits | 363 | 1 16 | 2 1 | 726 5,808
1st Degree Blood Relative—Delayed Intervention Group (BRDIG) | First visit Weekly visit | 363 | 1 16 | 2 1 | 726 5,808
CHW/PdS, for 5 days during the intervention section, the CHW/PdS will complete a tool to determine the time and effort by the clinic personnel in serving the DIG, BRIG, DDIG, BRDIG members explain | Five (5) working days | 11 | 1 | 1 | 55
Total |  | 1463 |  |  | 37,807

Dated: June 13, 2007.
Catina Conner,
Acting Reports Clearance Officer, Centers for Disease Control and Prevention.

[FR Doc. E7-11779 Filed 6-18-07; 8:45 am]

BILLING CODE 4163-18-P